DEPARTMENT OF HOMELAND SECURITY

Federal Emergency Management Agency

[Docket ID: FEMA-2022-0012; OMB No. 1660-0008]

Agency Information Collection Activities: Submission for OMB Review; Comment Request; Elevation Certificate/Floodproofing Certificate

AGENCY: Federal Emergency Management Agency, Department of Homeland Security.

ACTION: Notice. 30 Day notice of revision and request for comments.

SUMMARY: The Federal Emergency Management Agency (FEMA) will submit the information collection abstracted below to the Office of Management and Budget for review and clearance in accordance with the requirements of the Paperwork Reduction Act of 1995 (PRA). In accordance with the PRA, this notice seeks comments concerning the Elevation Certificate and the Floodproofing Certificate for Non-Residential Structures.

DATES: Comments must be submitted on or before October 27, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472-3100, email address FEMA-Information-Collections-Management@fema.dhs.gov or Joycelyn Collins, Program Analyst, Federal Insurance and Mitigation Administration, Flood Insurance Directorate, at 202-701-3383 or Joycelyn.Collins@fema.dhs.gov.

SUPPLEMENTARY INFORMATION: Communities participating in the National Flood Insurance Program (NFIP) are required to adopt a floodplain management ordinance that meets or exceeds the minimum floodplain management requirements of the NFIP. In accordance with FEMA's minimum floodplain management criteria, communities must require that all new construction and substantial improvement of residential structures and non-residential structures have the lowest floor (including basement) elevated to above the base flood elevation subject to 44 CFR 60.3(c)(2) and (3), unless, for residential structures, the community is granted an exception by FEMA for the allowance of basements under 44 CFR 60.6(b) or (c). New construction and substantial improvement of non-residential structures can also be floodproofed. This means that, together with attendant utility and sanitation facilities, they are designed such that below the base flood level the structure is watertight, with walls substantially impermeable to the passage of water and with structural components having the capability to resist hydrostatic and hydrodynamic loads and effects of buoyancy. 44 CFR 60.3(c)(3)(ii). Use of the Elevation Certificate and Floodproofing Certificate is one convenient way for a community to document building compliance. Title 44 CFR 61.7 and 61.8 require proper investigation to estimate the risk premium rates necessary to provide flood insurance.

This proposed information collection previously published in the Federal Register on March 10, 2022, at 87 FR 13743, with a 60-day public comment period. FEMA received 17 public comments related to the Elevation Certificate and Floodproofing Certificate. Two of the comments were not relevant to this information collection. Two other comments only expressed approval of the changes made and provided no suggestions. Several comments provided suggestions that had already been addressed in the proposed revisions. Some comments will be considered for future iterations as improved technology capabilities allow. FEMA accepted many of the other suggestions that better clarified the information being requested and improved the instructions for use of the collection instruments. None of the comments received addressed cost and hour burden.

The purpose of this notice is to notify the public that FEMA will submit the information collection abstracted below to the Office of Management and Budget for review and clearance.

Collection of Information

Title: Elevation Certificate/Floodproofing Certificate.

Type of information collection: Revision of a currently approved collection.

OMB Number: 1660-0008.

Form Titles and Numbers: FEMA Form FF-206-FY-22-152 (formerly 086-0-33), Elevation Certificate and FEMA Form FF-206-FY-22-153 (formerly 086-0-34), Floodproofing Certificate for Non-Residential Structures.

Abstract: The Elevation Certificate and Floodproofing Certificate are used in conjunction with the Flood Insurance Application to determine a building's compliance with local floodplain management provisions and to document elevations in support of flood insurance premiums or discounts that align with the building's risk of damage from flooding. Respondents are primarily surveyors, architects, or engineers; individual property owners may opt to complete specified portions of the Elevation Certificate.

Affected Public: Business or other for-profit.

Estimated Number of Respondents: 3,517.

Estimated Number of Responses: 3,517.

Estimated Total Annual Burden Hours: 12,734.

Estimated Total Annual Respondent Cost: $610,424.

Estimated Respondents' Operation and Maintenance Costs: $0.

Estimated Respondents' Capital and Start-Up Costs: $0.

Estimated Total Annual Cost to the Federal Government: $32,248.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-20884 Filed 9-26-22; 8:45 am]

BILLING CODE 9111-52-P